DEPARTMENT OF STATE

22 CFR Part 171

[Public Notice: 9523]

RIN 1400-AD88

Privacy Act; STATE-81, Office of Foreign Missions Records

AGENCY: Department of State.

ACTION: Final rule.

SUMMARY: The Department of State is issuing a final rule to amend its Privacy Act regulation exempting portions of a system of records from one or more provisions of the Privacy Act of 1974.

DATES: This final rule is effective May 27, 2016.

FOR FURTHER INFORMATION CONTACT: William P. Fischer, Acting Director; Office of Information Programs and Services, A/GIS/IPS; Department of State, SA-2; 515 22nd Street NW., Washington, DC 20522-8001, or at Privacy@state.gov.

SUPPLEMENTARY INFORMATION: The system, Office of Foreign Missions Records, designated as STATE-81, supports the Office of Foreign Missions, Department of State, in the implementation of the Foreign Missions Act, the operation of foreign missions, and the United States' extension of privileges, exemptions, immunities, benefits, and courtesies to foreign government officials, members/employees and officers of foreign missions and certain international organizations in the United States, their immediate family members, and domestic workers who are in the United States in nonimmigrant A-3 or G-5 visa status.

For additional background, see the notice of proposed rulemaking and the system of records notice published on December 17, 2015 (80 FR 78704 and 80 FR 78812, respectively). The Department received no public comment on these documents.

List of Subjects in 22 CFR Part 171

Privacy.

For the reasons stated in the preamble, 22 CFR part 171 is amended as follows:

PART 171—[AMENDED]

1. The authority citation for part 171 continues to read as follows:

Authority: 22 U.S.C. 2651a; 5 U.S.C. 552, 552a; E.O. 12600 (52 FR 23781); Pub. L. 95-521, 92 Stat. 1824 (codified as amended as 5 U.S.C. app. 101-505); 5 CFR part 2634.

§ 171.26—[Amended]

2. Section § 171.26 is amended by adding an entry, in alphabetical order, for “Office of Foreign Missions Records, STATE-81” to the list in paragraph (b)(2).

Joyce A. Barr,
Assistant Secretary for Administration, U.S. Department of State.

[FR Doc. 2016-12621 Filed 5-26-16; 8:45 am]

BILLING CODE 4710-43-P